NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: October 27, 2005, 8 a.m. to 5 p.m. October 28, 2005, 8 a.m. to 3 p.m.

Place: National Science Foundation, 4201 Wilson Boulevard, Room 1235.

Type of Meeting: Open.

Contact Person: Sue LaFratta, Office of Polar Programs (OPP), National Science Foundation, 4201 Wilson Boulevard, Arlington, VA 22230 (703) 292-8030.

Minutes: May be obtained from the contact person listed above.

Purpose of Meeting: To advise NSF on the impact of its policies, programs, and activities of the polar research community, to provide advice to the Director of OPP on issues related to long range planning.

Agenda: Staff presentations on program updates; discussions on International Polar Year; discussions on icebreakers.

Reason for Late Notice: Due to an oversight caused by the departure of a key member of the Office of Polar Programs.

Dated: October 12, 2005.
Susanne Bolton,
Committee Management Officer.

[FR Doc. 05-20764 Filed 10-17-05; 8:45 am]

BILLING CODE 7555-01-M